DEPARTMENT OF TRANSPORTATION

Federal Aviation Administration

Personnel Parachute Assemblies TSO-C23d

AGENCY: Federal Aviation Administration, DOT.

ACTION: Notice of re-activation.

SUMMARY: The Minimum Performance Standard for Personnel Parachute Assemblies and Components contained in technical standard order (TSO)-C23d, dated June 1, 1994, is re-activated.

DATES: TSO-C23d is re-activated as of December 24, 2008.

ADDRESSES: Send all inquiries pertaining to the re-activation of TSO-23d to: Federal Aviation Administration, Aircraft Certification Service, Aircraft Engineering Division, 5th Floor, 950 L'Enfant Plaza, SW., Washington, DC 20024, ATTN: Hal Jensen, AIR 120. You may deliver your inquiries to: Federal Aviation Administration, 5th Floor, 950 L'Enfant Plaza, SW., Washington, DC 20024. Include in the subject line of your electronic message the following: Inquiries, FAA TSO-23d, Personnel Parachute Assemblies.

FOR FURTHER INFORMATION CONTACT: Hal Jensen, Aerospace Engineer, Federal Aviation Administration, Aircraft Certification Service, Aircraft Engineering Division, Technical Programs and Continued Airworthiness Branch, AIR-120, 5th Floor, 950 L'Enfant Plaza, SW., Washington, DC 20024. Telephone (202) 385-6334, FAX (202) 385-6475, or e-mail at: hal.jensen@faa.gov.

SUPPLEMENTARY INFORMATION:

Background

Technical Standard Order (TSO)-C23d is being reinstated to allow for new models of personnel parachute assemblies to continue to be manufactured while we correct the issues associated with the now cancelled “e” version of TSO-C23. You may get a copy of TSO-C23d by logging onto: http://rgl.faa.gov/, select Technical Standard Orders and Index, and then select Active Historical.

Issued in Washington, DC, on December 17, 2008.
Susan J.M. Cabler,
Assistant Manager, Aircraft Engineering Division, Aircraft Certification Service.

[FR Doc. E8-30638 Filed 12-23-08; 8:45 am]

BILLING CODE 4910-13-M